DEPARTMENT OF ENERGY

Federal Energy Regulatory Commission

[Docket Nos. ER06-301-000, ER06-301-001]

Xcel Energy Services Inc.; Notice Allowing Post-Technical Conference Comments

June 13, 2006.

A technical conference was convened on Monday, June 12, 2006, from 10 a.m. to 11:30 p.m. at the offices of the Federal Energy Regulatory Commission, 888 First Street, NE., Washington, DC 20426. The technical conference addressed, among other things, the two issues related to Xcel Energy Services Inc.'s (XES) proposed Service Schedules H and I, as discussed in the Commission's order issued on May 5, 2006.¹ Prior to the technical conference, a notice was issued on May 31, 2006, that set forth two questions; namely, why the transfer price proposed in Service Schedule H is different from the transfer price proposed in Service Schedule I, and why XES needs both service schedules. These questions were discussed at the technical conference.

¹ Xcel Energy Services Inc., 115 FERC ¶ 61,148 (2006).

Take notice that the Commission will accept comments pursuant to the discussion at the technical conference. Initial comments are due no later than 5 p.m. Eastern Time on Wednesday, July 19, 2006. Reply comments are due no later than 5 p.m. Eastern Time on Friday, August 4, 2006.

For further information please contact Christopher Daignault at (202) 502-8286 or e-mail christopher.daignault@ferc.gov.

Magalie R. Salas,
Secretary.

[FR Doc. E6-9772 Filed 6-20-06; 8:45 am]

BILLING CODE 6717-01-P